DEPARTMENT OF HEALTH AND HUMAN SERVICES

National Institutes of Health

National Institute on Drug Abuse Amended; Notice of Meeting

Notice is hereby given of a change in the meeting of the National Institute on Drug Abuse Special Emphasis Panel, June 4, 2015, 10:00 a.m. to June 4, 2015, 12:00 p.m., National Institutes of Health, Neuroscience Center, 6001 Executive Boulevard, Rockville, MD 20852, which was published in the Federal Register on April 29, 2015, 80 83 FR 2015-10003.

The date of the meeting was changed to June 11, 2015. The meeting is closed to the public.

Dated: May 13, 2015.
Carolyn Baum,
Program Analyst, Office of Federal Advisory Committee Policy.

[FR Doc. 2015-12011 Filed 5-18-15; 8:45 am]

BILLING CODE 4140-01-P